DEPARTMENT OF TRANSPORTATION

Surface Transportation Board

[STB Finance Docket No. 34627]

Northern Lines Railway, LLC—Lease and Operation Exemption—The Burlington Northern and Santa Fe Railway Company

Northern Lines Railway, LLC (NLR), a noncarrier, has filed a verified notice of exemption under 49 CFR 1150.31 to lease, from The Burlington Northern and Santa Fe Railway Company (BNSF), and operate approximately 22.4 miles of rail line extending: (a) From the 33rd Street crossing, approximately milepost 76.03, in St. Cloud, MN, exclusive of the actual crossing, approximately one-half mile west of the St. Cloud Yard, to the current end-of-track in St. Joseph, MN, approximately milepost 81.11 at Borgert Road, Line Segment 204; and (b) from Rice Junction in St. Cloud, approximately milepost 0.0 of the Cold Spring line to the current end-of-track west of Cold Spring, MN, approximately milepost 16.98 near 178th Street, BNSF Line Segment 203, as well as certain related yard and industry tracks.¹

¹ NLR indicates that BNSF will reserve out of the leased trackage certain limited trackage rights between the 33rd Street crossing and a point west of the ballast pit track 582 (which includes trackage on the St. Joseph main line from the 33rd Street crossing to Rice Junction, approximately milepost 0.0, and trackage on the Cold Spring main line from milepost 0.0 to milepost 2.5 west of the ballast pit track 582).

In addition, NLR will acquire from BNSF incidental trackage rights, which will enable NLR to access the leased industry and yard tracks from the leased main line tracks, as follows: (a) Over the BNSF double main lines from approximately milepost 73.0 to approximately milepost 75.0; (b) over the east leg of the wye (Track 156) and over the west leg of the wye (Track 157), in East St. Cloud; (c) from the west end of the wye in East St. Cloud to the Track 12 switch with the East Lead in St. Cloud Yard; and (d) from the clearance point of the Track 11 switch with the West Track in St. Cloud Yard to the 33rd Street crossing, inclusive of the actual crossing, approximately one-half mile west of the St. Cloud Yard. All of the incidental trackage rights involve rail track located in the vicinity of St. Cloud.

This transaction is related to STB Finance Docket No. 34628, Peter A. Gilbertson, et al. and Anacostia Rail Holdings Company—Continuance in Control Exemption—Northern Lines Railway, LLC, wherein Peter A. Gilbertson, et al. (Gilbertson et al.) and Anacostia Rail Holdings Company (ARH) have filed a verified notice of exemption for Gilbertson et al. to continue in control of and for ARH to control NLR upon its becoming a Class III rail carrier.

NLR certifies that its projected revenues as a result of this transaction will not exceed those that would qualify it as a Class III rail carrier and states that such revenues will not exceed $5 million annually. The transaction was scheduled to be consummated on or after December 14, 2004.

If the verified notice contains false or misleading information, the exemption is void ab initio. Petitions to revoke the exemption under 49 U.S.C. 10502(d) may be filed at any time. The filing of a petition to revoke will not automatically stay the transaction.

An original and 10 copies of all pleadings, referring to STB Finance Docket No. 34627, must be filed with the Surface Transportation Board, 1925 K Street, NW., Washington, DC 20423-0001. In addition, a copy of each pleading must be served on Rose-Michele Weinryb, Esq., Weiner Brodsky Sidman Kider PC, 1300 19th St., NW., Fifth Floor, Washington, DC 20036-1609.

Board decisions and notices are available on our Web site at http://www.stb.dot.gov.

Decided: December 27, 2004.
By the Board, David M. Konschnik, Director, Office of Proceedings.
Vernon A. Williams,
Secretary.

[FR Doc. 05-255 Filed 1-5-05; 8:45 am]

BILLING CODE 4915-01-P